DEPARTMENT OF ENERGY

Federal Energy Regulatory Commission

Notice of Proposed Changes in FERC Gas Tariff

September 9, 2005.

| Docket No.
Algonquin Gas Transmission, LLC | RP05-601-000
ANR Pipeline Company | RP05-633-000
ANR Storage Company | RP05-611-000
Black Marlin Pipeline Company | RP05-620-000
Blue Lake Gas Storage Company | RP05-612-000
Columbia Gas Transmission Corporation | RP05-594-000
Columbia Gulf Transmission Company | RP05-587-000
Crossroads Pipeline Company | RP05-596-000
Dauphin Island Gathering Partners | RP05-649-000
Destin Pipeline Company, L.L.C | RP05-621-000
Discovery Gas Transmission LLC | RP05-613-000
Dominion Cove Point LNG, LP | RP05-614-000
Dominion Transmission, Inc | RP05-624-000
East Tennessee Natural Gas, LLC | RP05-609-000
Equitrans, L.P | RP05-622-000
Florida Gas Transmission Company | RP05-634-000
Gas Transmission Northwest Corporation | RP05-635-000
Granite State Gas Transmission Company | RP05-602-000
Great Lakes Gas Transmission Limited Partnership | RP05-583-000
Gulfstream Natural Gas System, L.L.C | RP05-610-000
Irquois Gas Transmission System, L.P | RP05-632-000
Maritimes & Northeast Pipeline, L.L.C | RP05-608-000
MarkWest New Mexico L.P | RP05-584-000
National Fuel Gas Supply Corporation | RP05-631-000
North Baja Pipeline, LLC | RP05-630-000
Northern Border Pipeline Company | RP05-615-000
Northern Border Pipeline Company | RP05-616-000
Northern Natural Gas Company | RP05-645-000
Paiute Pipeline Company | RP05-607-000
Panhandle Eastern Pipe Line Company, LP | RP05-644-000
Petal Gas Storage L.L.C | RP05-639-000
Pine Needle LNG Company, LLC | RP05-590-000
Portland Natural Gas Transmission System | RP05-591-000
SCG Pipeline Inc | RP05-592-000
Sea Robin Pipeline Company, LLC | RP05-642-000
Southern LNG, Inc. | RP05-638-000
Southern Natural Gas Company | RP05-643-000
Southwest Gas Storage Company | RP05-637-000
Southwest Gas Transmission Company | RP05-593-000
Tennessee Gas Pipeline Company | RP05-640-000
Texas Eastern Transmission, LP | RP05-595-000
Texas Gas Transmission, LLC | RP05-585-000
Transcontinental Gas Pipe Line Corporation | RP05-588-000
Transwestern Pipeline Company, LLC | RP05-641-000
Trunkline Gas Company, LLC | RP05-627-000
Trunkline LNG Company, LLC | RP05-628-000
Tuscurora Gas Transmission Company | RP05-648-000
Vector Pipeline L.P | RP05-629-000
Venice Gathering System, L.L.C | RP05-655-000
WestGas Interstate, Inc | RP05-626-000
Williston Basin Interstate Pipeline Company | RP05-589-000

Take notice that the above-referenced pipelines tendered for filing their respective tariff sheets, pursuant to § 154.402 of the Commission's regulations, to reflect the Commission's change in the unit rate for the Annual Charge Adjustment (ACA) surcharge to be applied to rates for recovery of 2005 Annual Charges. The proposed effective date of the tariff sheets is October 1, 2005.

The above-referenced pipelines state that the purpose of their filings is to reflect the revised ACA effective for the twelve-month period beginning October 1, 2005. The pipelines further state that their tariff sheets reflect a decrease of $0.0001 per Dth in the ACA adjustment surcharge, resulting in a new ACA rate of $0.0018 Dth as specified by the Commission in its invoice dated June 30, 2005, for the Annual Charge Billing—Fiscal year 2005.

Due to the large number of pipelines that have filed to comply with the Annual Charge Adjustment Billing, the Commission is issuing this single notice of the filings included in the caption above.

Any person desiring to become part in any of the listed dockets must file a separate motion to intervene in each docket for which they wish party status.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Intervention/Protest Date: 5 p.m. Eastern Time September 13, 2005.

Magalie R. Salas,
Secretary.

[FR Doc. E5-5061 Filed 9-15-05; 8:45 am]

BILLING CODE 6717-01-P